DEPARTMENT OF ENERGY

Federal Energy Regulatory Commission

[Docket Nos. CP07-62-000; CP07-63-000]

AES Sparrows Point LNG, LLC and Mid-Atlantic Express, LLC; Notice of Availability of the Final General Conformity Determination for Maryland for the Proposed Sparrows Point LNG Terminal and Pipeline Project

December 29, 2009.

The staff of the Federal Energy Regulatory Commission (FERC or Commission) has prepared this Final General Conformity Determination (GCD) for Maryland to assess the potential air quality impacts associated with the construction and operation of a liquefied natural gas (LNG) import terminal and natural gas pipeline proposed by AES Sparrows Point LNG, LLC and Mid-Atlantic Express, LLC, collectively referred to as AES, in the above-referenced dockets. A separate Final General Conformity Determination is being prepared for Pennsylvania.

The final GCD was prepared to satisfy the requirements of the Clean Air Act. The FERC has determined that the Project will achieve conformity in Maryland.

The final GCD addresses the potential air quality impacts from the construction and operation of the following LNG terminal and natural gas pipeline facilities:

• A ship unloading facility, with two berths, capable of receiving LNG ships with capacities up to 217,000 m ³;

• Three 160,000 m ³ (net capacity) full-containment LNG storage tanks;

• A closed-loop shell and tube heat exchanger vaporization system;

• Various ancillary facilities including administrative offices, warehouse, main control room, security building, and a platform control room;

• Meter and regulation station within the LNG Terminal site;

• Dredging an approximate 118 acre area in the Patapsco River to −45 feet below mean lower low water to accommodate the LNG vessels and transport of the processed dredge material to its disposal location;

• Approximately 88 miles of 30-inch-diameter natural gas pipeline (approximately 48 miles in Maryland and 40 miles in Pennsylvania), a pig launcher and receiver facility at the beginning and ending of the pipeline, 10 mainline valves, and three meter and regulation stations, one at each of three interconnection sites at the end of the pipeline;

• Marine vessel transit (including LNG vessels, security escort boats, and assist tugs) from the LNG vessel's entrance into State waters, through its transit to and from the LNG terminal at Sparrows Point; and

• The optional combined-cycle cogeneration power plant at the terminal site.

The final GCD has been placed in the public files of the FERC and is available for distribution and public inspection at:

Federal Energy Regulatory Commission, Public Reference Room, 888 First Street, NE., Room 2A, Washington, DC 20426, (202) 502-8371.

A limited number of hard copies of the final GCD are available from the FERC's Public Reference Room, identified above. This final GCD is also available for public viewing on the FERC's Internet Web site at http://www.ferc.gov, via the eLibrary link.

Copies of this final GCD have been mailed to the U.S. Environmental Protection Agency, Region III, the Maryland Department of Natural Resources, the Maryland Department of Environment, the Pennsylvania Department of Environmental Protection, and the Virginia Department of Environmental Quality.

Additional information about the project is available from the Commission's Office of External Affairs at 1-866-208-FERC (3372). The administrative public record for this proceeding to date is on the FERC Internet Web site (http://www.ferc.gov). Go to Documents & Filings and choose the eLibrary link. Under eLibrary, click on “General Search,” and enter the docket number excluding the last three digits in the Docket Number field (e.g., CP07-62). Be sure you have selected an appropriate date range. For assistance, please contact FERC Online Support at: FERCOnlineSupport@ferc.gov or toll free at 1-866-208-3676, or for TTY call 202-502-8659. The eLibrary link on the FERC Internet Web site also provides access to the texts of formal documents issued by the Commission, such as orders, notices, and rulemakings.

Kimberly D. Bose,
Secretary.

[FR Doc. E9-31318 Filed 1-4-10; 8:45 am]

BILLING CODE 6717-01-P